DEPARTMENT OF TRANSPORTATION

Federal Aviation Administration

14 CFR Part 39

[Docket No. FAA-2025-0017; Project Identifier MCAI-2024-00706-R; Amendment 39-22951; AD 2025-03-03]

RIN 2120-AA64

Airworthiness Directives; Leonardo S.p.a. Helicopters

AGENCY: Federal Aviation Administration (FAA), DOT.

ACTION: Final rule; request for comments.

SUMMARY: The FAA is adopting a new airworthiness directive (AD) for all Leonardo S.p.a. Model A109E, A109K2, A109S, AB412, AB412 EP, AB139, and AW139 helicopters. This AD was prompted by a report that certain rescue hoist cable assemblies may be equipped with a defective ball end. This AD requires inspecting certain rescue hoist cable assemblies and, depending on the results, replacing the rescue hoist cable assembly. This AD also allows installing certain rescue hoist cable assemblies and certain rescue hoists provided its requirements are met. These actions are specified in a European Union Aviation Safety Agency (EASA) AD, which is incorporated by reference. The FAA is issuing this AD to address the unsafe condition on these products.

DATES: This AD is effective February 19, 2025.

The Director of the Federal Register approved the incorporation by reference of a certain publication listed in this AD as of February 19, 2025.

The FAA must receive comments on this AD by March 21, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0017; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0017.

FOR FURTHER INFORMATION CONTACT: Eric Rivera, Aviation Safety Engineer, FAA, 1600 Stewart Avenue, Suite 410, Westbury, NY 11590; phone: (847) 294-7166; email: eric.rivera01@faa.gov.

SUPPLEMENTARY INFORMATION:

Comments Invited

The FAA invites you to send any written data, views, or arguments about this final rule. Send your comments to an address listed under the ADDRESSES section. Include “Docket No. FAA-2025-0017; Project Identifier MCAI-2024-00706-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Eric Rivera, Aviation Safety Engineer, FAA, 1600 Stewart Avenue, Suite 410, Westbury, NY 11590; phone: (847) 294-7166; email: eric.rivera01@faa.gov. Any commentary that the FAA receives which is not specifically designated as CBI will be placed in the public docket for this rulemaking.

Background

EASA, which is the Technical Agent for the Member States of the European Union, has issued EASA AD 2024-0228, dated November 29, 2024 (EASA AD 2024-0228) (also referred to as the MCAI), to correct an unsafe condition on Leonardo S.p.A. Model AB412, AB412EP, A109E, A109K2, A109S, AB139, and AW139 helicopters. The MCAI states the manufacturer reported that a defective testing tool was used during production, repair, and overhaul of certain recue hoist cable assemblies resulting in assemblies equipped with a defective ball end.

The FAA is issuing this AD to detect and address defective rescue hoist cable assembly ball ends. This unsafe condition, if not addressed, could lead to failure of the rescue hoist cable assembly, possibly resulting in injuries to a human load, or to persons on ground.

You may examine the MCAI in the AD docket at regulations.gov under Docket No. FAA-2025-0017.

Material Incorporated by Reference Under 1 CFR Part 51

The FAA reviewed EASA AD 2024-0228, which requires, for helicopters with certain rescue hoists installed, a one-time inspection of the rescue hoist cable assembly and, depending on the results, replacing the rescue hoist cable assembly. EASA AD 2024-0228 also allows installing certain rescue hoist cable assemblies on any helicopter provided it is new (never previously installed on a rescue hoist) and allows installing certain rescue hoists on any helicopter provided it passes its required inspection.

This material is reasonably available because the interested parties have access to it through their normal course of business or by the means identified in the ADDRESSES section.

FAA's Determination

These products have been approved by the aviation authority of another country and are approved for operation in the United States. Pursuant to the FAA's bilateral agreement with this State of Design Authority, it has notified the FAA about the unsafe condition described in the MCAI. The FAA is issuing this AD after determining that the unsafe condition described previously is likely to exist or develop on other products of these same type designs.

AD Requirements

This AD requires accomplishing the actions specified in EASA AD 2024-0228, described previously, as incorporated by reference, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2024-0228 is incorporated by reference in this AD. This AD requires compliance with EASA AD 2024-0228 in its entirety through that incorporation, except for any differences identified as exceptions in the regulatory text of this AD. Using common terms that are the same as the heading of a particular section in EASA AD 2024-0228 does not mean that operators need comply only with that section. For example, where the AD requirement refers to “all required actions and compliance times,” compliance with this AD requirement is not limited to the section titled “Required Action(s) and Compliance Time(s)” in EASA AD 2024-0228. Material required by EASA AD 2024-0228 for compliance will be available at regulations.gov under Docket No. FAA-2025-0017 after this AD is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the rescue hoist assembly is essential during rescue operations and failure of this assembly could result in a failed rescue attempt and injury to a person being lifted or persons on the ground. Additionally, the FAA has no information pertaining to the extent of the defect in the rescue hoist assembly that may currently exist in helicopters or how quickly the condition may propagate to failure, therefore, the initial actions required by this AD must be accomplished before next rescue hoist operation. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects up to 422 helicopters of U.S. registry. Labor rates are estimated at $85 per work-hour. Based on these numbers, the FAA estimates that operators may incur the following costs to comply with this AD.

Inspecting a rescue hoist cable assembly will take 2 work-hours for an estimated cost of $170 per helicopter and up to $71,740 for the U.S. fleet. If required, replacing a rescue hoist cable assembly will take 1 work-hours and parts will cost $10,218 for an estimated cost of $10,303 per helicopter.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-03-03 Leonardo S.p.a.: Amendment 39-22951; Docket No. FAA-2025-0017; Project Identifier MCAI-2024-00706-R.

(a) Effective Date

This airworthiness directive (AD) is effective February 19, 2025.

(b) Affected ADs

None.

(c) Applicability

This AD applies to Leonardo S.p.a. Model A109E, A109K2, A109S, AB412, AB412 EP, AB139, and AW139 helicopters, certificated in any category.

(d) Subject

Joint Aircraft System Component (JASC) Code 2500, Cabin Equipment/Furnishings.

(e) Unsafe Condition

This AD was prompted by a report that certain rescue hoist cable assemblies may be equipped with a defective ball end. The FAA is issuing this AD to detect and address defective rescue hoist cable assembly ball ends. This unsafe condition, if not addressed, could result in failure of the rescue hoist cable assembly, in-flight failure of the rescue hoist, and subsequent injury to a person being lifted or to persons on the ground.

(f) Compliance

Comply with this AD within the compliance times specified, unless already done.

(g) Requirements

Except as specified in paragraphs (h) and (i) of this AD: Comply with all required actions and compliance times specified in, and in accordance with, European Union Aviation Safety Agency AD 2024-0228, dated November 29, 2024 (EASA AD 2024-0228).

(h) Exceptions to EASA AD 2024-0228

(1) Where EASA AD 2024-0228 refers to its effective date, this AD requires using the effective date of this AD.

(2) Where EASA AD 2024-0228 defines the “affected rescue hoist,” this AD requires replacing that definition with “Any rescue hoist, as identified in Table 2 of EASA AD 2024-0228, either manufactured, repaired, or overhauled by Breeze-Eastern's main facility in Whippany, New Jersey before April 8, 2024 and which has not had the rescue hoist cable replaced since then, and any rescue hoist, as identified in Table 2 of EASA AD 2024-0228, if the date of manufacture, repair, or overhaul cannot be determined.”

(3) Where paragraph (2) of EASA AD 2024-0228 states “any discrepancy is detected, as defined in the ASB,” this AD requires replacing that text with “there is any gouging.”

Note 1 to paragraph (h)(3): The material referenced in EASA AD 2024-0228 provides an illustration of gouging.

(4) This AD does not adopt the “Remarks” section of EASA AD 2024-0228.

(i) No Reporting Requirement

Although the material referenced in EASA AD 2024-0228 specifies to submit certain information to the manufacturer, this AD does not require that action.

(j) Special Flight Permit

Special flight permits may be issued under 14 CFR 21.197 and 21.199 to operate the helicopter to a location where the requirements of this AD can be accomplished provided that the rescue hoist is not used.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: AMOC@faa.gov.

(2) Before using any approved AMOC, notify your appropriate principal inspector, or lacking a principal inspector, the manager of the local Flight Standards District Office/certificate holding district office.

(l) Related Information

For more information about this AD, contact Eric Rivera, Aviation Safety Engineer, FAA, 1600 Stewart Avenue, Suite 410, Westbury, NY 11590; phone: (847) 294-7166; email: eric.rivera01@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0228, dated November 29, 2024.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on January 27, 2025.
Steven W. Thompson,
Acting Deputy Director, Compliance & Airworthiness Division, Aircraft Certification Service.

[FR Doc. 2025-02249 Filed 1-31-25; 4:15 pm]

BILLING CODE 4910-13-P